DEPARTMENT OF ENERGY

Federal Energy Regulatory Commission

[Docket No. AD13-9-000]

Hydropower Regulatory Efficiency Act of 2013; Notice of Workshop

The Federal Energy Regulatory Commission (FERC or Commission) staff will hold a workshop on October 2, 2013, from 12:00 p.m. (EDT) to 4:00 p.m. (EDT) in the Commission Meeting Room at 888 First Street, NE., Washington, DC 20426. The workshop will be open to the public, and all interested parties are invited to attend and participate.

The purpose of the workshop is to begin investigating the feasibility of a two-year process for the issuance of a license for hydropower development at non-powered dams and closed-loop pumped storage projects in compliance with section 6 of the Hydropower Regulatory Efficiency Act of 2013. Participants should be prepared to discuss whether such a process is feasible, present ideas on the details of a two-year licensing process, discuss potential criteria for identifying projects that may be appropriate for a two-year licensing process, and recommend potential pilot projects to test a two-year licensing process.

This workshop will be transcribed. Transcripts of the workshop will be immediately available for a fee from Ace-Federal Reporters, Inc. at (202) 347-3700. A free webcast of this event will be available through www.ferc.gov. Anyone with internet access who wants to view this event can do so by navigating to the Calendar of Events at www.ferc.gov and locating this event in the Calendar. The event will contain a link to its webcast. The Capitol Connection provides technical support for webcasts and offers the option of listening to the workshop via phone-bridge for a fee. If you have any questions, visit www.CapitolConnection.org or call (703) 993-3100.

Those interested in attending the workshop or viewing the webcast are encouraged to register at https://www.ferc.gov/whats-new/registration/efficiency-act-10-02-13-form.asp by September 25, 2013. A limited number of phone lines will be available on a first-come, first-served basis for interested parties to participate via teleconference. If you would like to participate via teleconference, please contact Ken Wilcox at (202) 502-6835 or kenneth.wilcox@ferc.gov by September 25, 2013. A workshop agenda will be issued under separate notice.

Commission workshops are accessible under section 508 of the Rehabilitation Act of 1973. For accessibility accommodations, please send an email to accessibility@ferc.gov, call (866) 208-3372 (toll free) or (202) 208-8659 (TTY), or send a FAX to (202) 208-2106 with the required accommodations.

Those who wish to file written comments may do so by November 1, 2013. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number AD13-9-000.

All comments will be placed in the Commission's public files and will be available for review at the Commission in the Public Reference Room or may be viewed on the Commission's Web site at www.ferc.gov using the eLibrary link. Enter AD13-9 in the docket number field to access documents. For assistance, please contact FERC Online Support.

For more information about this workshop, please contact:

Brandon Cherry (Technical Information), Office of Energy Projects, Federal Energy Regulatory Commission, 888 First Street NE., Washington, DC 20426, (202) 502-8328, brandon.cherry@ferc.gov.

Sarah McKinley (Logistical Information), Office of External Affairs, Federal Energy Regulatory Commission, 888 First Street NE., Washington, DC 20426, (202) 502-8004, sarah.mckinley@ferc.gov.

Dated: September 3, 2013.
Nathaniel J. Davis, Sr.,
Deputy Secretary.

[FR Doc. 2013-21960 Filed 9-9-13; 8:45 am]

BILLING CODE 6717-01-P